ENVIRONMENTAL PROTECTION AGENCY

[FRL-9973-33—Region 9]

Clean Air Act Operating Permit Program; Petitions for Objection to Proposed Permits for Linn Operating, Inc.—Fairfield Lease and Ethyl D Lease, San Joaquin Valley Unified Air Pollution Control District

AGENCY: Environmental Protection Agency (EPA).

ACTION: Notice of final Order on petitions to object to air permit.

SUMMARY: This document announces that the Environmental Protection Agency (EPA) Administrator has responded to two citizen petitions asking the EPA to object to the proposed issuance of two Authority to Construct/Certificate of Conformity documents (Permits) issued by the San Joaquin Valley Unified Air Pollution Control District (SJVUAPCD). Specifically, the Administrator has denied the June 24, 2015 petitions (Petitions) submitted by the Climate Change Law Foundation to object to SJVUAPCD's proposed issuance of the Permits for the Linn Operating, Inc.—Fairfield and Ethyl D Leases located in Kern County, California.

ADDRESSES: You may review copies of the final Order, the Petitions, and other supporting information at U.S. Environmental Protection Agency Region IX, 75 Hawthorne Street, San Francisco, CA 94105-3901.

The EPA requests that you contact the individual listed in the FOR FURTHER INFORMATION CONTACT section to view copies of the final Order, Petitions, and other supporting information. You may view the hard copies Monday through Friday, from 9 a.m. to 3 p.m., excluding Federal holidays. If you wish to examine these documents, you should make an appointment at least 24 hours before the visiting day. Additionally, the final Order is available electronically at: https://www.epa.gov/sites/production/files/2017-10/documents/linn_fairfield_and_ethyl_order_10-6-17.pdf.

FOR FURTHER INFORMATION CONTACT: Laura Yannayon, EPA Region IX, (415) 972-3534, yannayon.laura@epa.gov.

SUPPLEMENTARY INFORMATION: SJVUAPCD Rule 2201 affords the EPA a 45-day period to review and object to, as appropriate, a proposed permit. Rule 2201 § 5.9.1. If the EPA does not object, Rule 2201 allows any person to petition the EPA, within 60 days, to object to the proposed permit. Petitions must be based only on objections to the permit that were raised with reasonable specificity during the public comment period, unless the petitioner demonstrates that it was impracticable to raise these issues during the comment period, or the grounds for the issue arose after this period.

The EPA received the Petitions dated June 24, 2015, requesting that the EPA object to the proposed issuance of the Permits to Linn Operating, Inc. for the addition of three new gas-fired steam generators on its Fairfield lease, and one new gas-fired steam generator on its Ethyl D lease, both located in Kern County, California. The substantive claims raised in the two Petitions were essentially identical. Therefore, the EPA responded to both Petitions in a single order. In summary, the Petitions claimed that certain emission reductions had not been included in an EPA-approved attainment plan and thus could not be used, and that certain emission reduction credits used in the permitting process were invalid.

On October 6, 2017, the Administrator issued an order denying the Petitions. The EPA's rationale for denying the claims raised in the petitions are described in the Order.

Dated: January 16, 2018.
Alexis Strauss,
Acting Regional Administrator, Region IX.

[FR Doc. 2018-02049 Filed 1-31-18; 8:45 am]

BILLING CODE 6560-50-P